ENVIRONMENTAL PROTECTION AGENCY

[EPA-HQ-OECA-2013-0323; FRL-9915-25-OEI ]

Information Collection Request Submitted to OMB for Review and Approval; Comment Request; NESHAP for Area Sources: Electric Arc Furnace Steelmaking Facilities (Renewal)

AGENCY: Environmental Protection Agency (EPA).

ACTION: Notice.

SUMMARY: The Environmental Protection Agency has submitted an information collection request (ICR), “NESHAP for Area Sources: Electric Arc Furnace Steelmaking Facilities (Renewal)” (EPA ICR No. 2277.04, OMB Control No. 2060-0608) to the Office of Management and Budget (OMB) for review and approval in accordance with the Paperwork Reduction Act (44 U.S.C. 3501 et seq.). This is a proposed extension of the ICR, which is currently approved through August 31, 2014. Public comments were previously requested via the Federal Register (78 FR 35023) on June 11, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 22, 2014.

ADDRESSES: Submit your comments, referencing Docket ID Number EPA-HQ-OECA-2013-0323, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: The affected entities are subject to the General Provisions of the NESHAP at 40 CFR Part 63, Subpart A, and any changes, or additions specified at 40 CFR Part 63, Subpart YYYYY. Owners or operators of the affected facilities must submit a one-time-only report of any physical or operational changes, initial performance tests, and periodic reports and results. Owners or operators are also required to maintain records of the occurrence and duration of any startup, shutdown, or malfunction in the operation of an affected facility, or any period during which the monitoring system is inoperative. Reports addressing (1) the number of mercury switches removed or the weight of mercury recovered from the switches and properly managed, the estimated number of vehicles processed, an estimate of the percent of mercury switches recovered, and a certification that the recovered mercury switches were recycled at RCRA-permitted facilities, and (2) the control of contaminants from scrap according to the requirements in § 63.10(e) are required semiannually.

Form Numbers: None.

Respondents/affected entities: Owners or operators of electric arc furnace steelmaking facilities.

Respondent's obligation to respond: Mandatory (40 CFR Part 63, Subpart YYYYY).

Estimated number of respondents: 87 (total).

Frequency of response: Initially, semiannually and occasionally.

Total estimated burden: 1,417 hours (per year). Burden is defined at 5 CFR 1320.3(b).

Total estimated cost: $136,341 (per year), includes no annualized capital or operation & maintenance costs.

Changes in the Estimates: There is a decrease in the respondent burden and an increase in Agency burden. These changes occurred due to the following adjustment: (1) This ICR revises the number of respondents from 91 to 87 based on input provided from industry trade association; and (2) This ICR corrects the frequency of semiannual report review from one to two in Table 2. This correction results in an increase in the estimated Agency burden.

Spencer Clark,
Acting Director, Collection Strategies Division.

[FR Doc. 2014-19850 Filed 8-20-14; 8:45 am]

BILLING CODE 6560-50-P